DEPARTMENT OF HOMELAND SECURITY

U.S. Customs and Border Protection

19 CFR Part 113

[CBP Dec. 15-15, USCBP-2006-0013]

RIN 1515-AD56 [Formerly 1505-AB54]

Customs and Border Protection's Bond Program; Correction

AGENCY: U.S. Customs and Border Protection, Department of Homeland Security.

ACTION: Final rule; correction.

SUMMARY: U.S. Customs and Border Protection (CBP) published in the Federal Register of November 13, 2015, a final rule amending CBP's bond regulations. In that rule, CBP amended the regulation prescribing bond and rider filing requirements and stated, in the preamble, that the agency's intent was to provide additional time for the filing of these documents prior to their effective date. Due to a drafting error, one of the provisions inadvertently provides for a more restrictive time frame for filing a continuous bond, associated application, or rider prior to their effective date. This document corrects that provision to conform it to CBP's stated intent to liberalize the bond and rider filing process.

DATES: Effective on March 22, 2016.

FOR FURTHER INFORMATION CONTACT: Kara Welty, Revenue Division, Office of Administration, Customs and Border Protection, Tel. (317) 614-4614.

SUPPLEMENTARY INFORMATION: On November 13, 2015, U.S. Customs and Border Protection (CBP) published in the Federal Register (80 FR 70154), as CBP Dec. 15-15, a final rule amending title 19 of the Code of Federal Regulations (19 CFR) regarding CBP's bond regulations. In that document, CBP amended 19 CFR 113.26(a), which pertains to when bonds and riders must be filed prior to their effective date, to provide that “A continuous bond, and any associated application required by § 113.11 or a rider, must be filed at least 60 days prior to the effective date requested for the continuous bond or rider.”

Prior to the amendments effectuated by CBP Dec. 15-15, § 113.26(a) permitted filing of a bond or rider up to 30 days before the bond's effective date. CBP's intent, as stated in the preamble to CBP Dec. 15-15 at pages 70156 and 70160 of the November 13, 2015, Federal Register document, was to liberalize § 113.26(a) to allow the filing of bonds and riders up to 60 days prior to the bond's effective date. This document corrects 19 CFR 113.26(a) to clarify that bonds and riders may be filed up to 60 days prior to the effective date requested for the continuous bond or rider.

List of Subjects in 19 CFR Part 113

Bonds, Copyrights, Counterfeit goods, Customs duties and inspection, Imports, Reporting and recordkeeping requirements, Restricted merchandise, Seizures and forfeitures.

Amendment to CBP Regulations

For reasons discussed in the preamble, CBP amends 19 CFR part 113 with the following correcting amendment:

PART 113—CBP BONDS

1. The authority citation for part 113 continues, in part, to read as follows:

Authority: 6 U.S.C. 101, et seq.; 19 U.S.C. 66, 1623, 1624.

2. In § 113.26, revise paragraph (a) to read as follows:

§ 113.26 Effective dates of bonds and riders.

(a) General. A continuous bond, and any associated application required by § 113.11, or rider, may be filed up to 60 days prior to the effective date requested for the continuous bond or rider.

* * * * *

Alice A. Kipel,
Executive Director, Regulations and Rulings, Office of International Trade, U.S. Customs and Border Protection.
Approved: March 15, 2016.
Timothy E. Skud,
Deputy Assistant Secretary of the Treasury.

[FR Doc. 2016-06323 Filed 3-21-16; 8:45 am]

BILLING CODE 9111-14-P